DEPARTMENT OF THE INTERIOR

National Park Service

[NPS-WASO-NAGPRA-NPS0028653; PPWOCRADN0-PCU00RP14.R50000]

Notice of Inventory Completion: Historic Westville, Inc., Columbus, GA; Correction

AGENCY: National Park Service, Interior.

ACTION: Notice; correction.

SUMMARY: Historic Westville, Inc. has corrected an inventory of human remains and associated funerary objects, published in a Notice of Inventory Completion in the Federal Register on November 13, 2018. This notice corrects the number of associated funerary objects. Lineal descendants or representatives of any Indian Tribe or Native Hawaiian organization not identified in this notice that wish to request transfer of control of these human remains and associated funerary objects should submit a written request to the Historic Westville, Inc. If no additional requestors come forward, transfer of control of the human remains and associated funerary objects to the Indian Tribes or Native Hawaiian organizations stated in this notice may proceed.

DATES: Lineal descendants or representatives of any Indian Tribe or Native Hawaiian organization not identified in this notice that wish to request transfer of control of these human remains and associated funerary objects should submit a written request with information in support of the request to the Historic Westville, Inc. at the address in this notice by October 3, 2019.

ADDRESSES: Terra Martinez, Historic Westville, Inc., 1130 Martin Luther King Jr. Boulevard, Columbus, GA 31906, telephone (706) 940-0057, email office@westville.org.

SUPPLEMENTARY INFORMATION: Notice is here given in accordance with the Native American Graves Protection and Repatriation Act (NAGPRA), 25 U.S.C. 3003, of the correction of an inventory of human remains and associated funerary objects under the control of the Historic Westville, Inc. The human remains and associated funerary objects were removed from unknown parts of northern Georgia and southern Tennessee.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (83 FR 56375-56376, November 13, 2018). Upon beginning the move of museum collections to a new site from the current warehouse, boxes containing funerary objects were discovered. Transfer of control of the items in this correction notice has not occurred.

Correction

In the Federal Register (83 FR 56375, November 13, 2018), column 3, paragraph 3, sentence 6 is corrected by substituting the following sentence:

The 376 associated funerary objects are 255 beads, 29 gorgets and possible gorgets, 35 celts and possible celts, 19 turtle and mollusk shells, 21 clay pots that may be reproduction, two intact pottery bowls, one intact pottery vessel, one sandstone hawk effigy, five flutes that are possible reproductions, five large decorated sherds, one pipe, one mask that is a possible reproduction, and one unknown ceramic.

In the Federal Register 83 FR 56376, November 13, 2018, column 1, paragraph 2, sentence 3 is corrected by substituting the following sentence:

Pursuant to 25 U.S.C. 3001(3)(A), the 376 objects described in this notice are reasonably believed to have been placed with or near individual human remains at the time of death or later as part of the death rite or ceremony.

Additional Requestors and Disposition

Representatives of any Indian Tribe or Native Hawaiian organization that wish to request transfer of control of these human remains and associated funerary objects should submit a written request with information in support of the request to Terra Martinez, Historic Westville, Inc., 1130 Martin Luther King Jr. Boulevard, Columbus, GA 31906, telephone (706) 940-0057, email office@westville.org, by October 3, 2019. After that date, if no additional requestors have come forward, transfer of control of the human remains and associated funerary objects to The Muscogee (Creek) Nation may proceed.

The Historic Westville, Inc. is responsible for notifying the Indian Tribes listed in the original notice that this notice has been published.

Dated: August 6, 2019.
Melanie O'Brien,
Manager, National NAGPRA Program.

[FR Doc. 2019-18859 Filed 8-30-19; 8:45 am]

BILLING CODE 4312-52-P